DEPARTMENT OF COMMERCE

International Trade Administration

Initiation of Antidumping and Countervailing Duty Administrative Reviews

AGENCY: Enforcement and Compliance, International Trade Administration, Department of Commerce.

SUMMARY: The Department of Commerce (“the Department”) has received requests to conduct administrative reviews of various antidumping and countervailing duty orders and findings with April anniversary dates. In accordance with the Department's regulations, we are initiating those administrative reviews.

DATES: Effective Dates: June 6, 2016.

FOR FURTHER INFORMATION CONTACT: Brenda E. Waters, Office of AD/CVD Operations, Customs Liaison Unit, Enforcement and Compliance, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with April anniversary dates.

All deadlines for the submission of various types of information, certifications, or comments or actions by the Department discussed below refer to the number of calendar days from the applicable starting time.

Notice of No Sales

If a producer or exporter named in this notice of initiation had no exports, sales, or entries during the period of review (“POR”), it must notify the Department within 30 days of publication of this notice in the Federal Register. All submissions must be filed electronically at http://access.trade.gov in accordance with 19 CFR 351.303.¹ Such submissions are subject to verification in accordance with section 782(i) of the Tariff Act of 1930, as amended (“the Act”). Further, in accordance with 19 CFR 351.303(f)(1)(i), a copy must be served on every party on the Department's service list.

¹ See Antidumping and Countervailing Duty Proceedings: Electronic Filing Procedures; Administrative Protective Order Procedures, 76 FR 39263 (July 6, 2011).

Respondent Selection

In the event the Department limits the number of respondents for individual examination for administrative reviews initiated pursuant to requests made for the orders identified below, the Department intends to select respondents based on U.S. Customs and Border Protection (“CBP”) data for U.S. imports during the period of review. We intend to place the CBP data on the record within five days of publication of the initiation notice and to make our decision regarding respondent selection within 30 days of publication of the initiation Federal Register notice. Comments regarding the CBP data and respondent selection should be submitted seven days after the placement of the CBP data on the record of this review. Parties wishing to submit rebuttal comments should submit those comments five days after the deadline for the initial comments.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value (“Q&V”) Questionnaire for purposes of respondent selection, in general each company must report volume and value data separately for itself. Parties should not include data for any other party, even if they believe they should be treated as a single entity with that other party. If a company was collapsed with another company or companies in the most recently completed segment of this proceeding where the Department considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://enforcement.trade.gov/nme/nme-sep-rate.html on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Status Application will be available on the Department's Web site at http://enforcement.trade.gov/nme/nme-sep-rate.html on the date of publication of this Federal Register notice. In responding to the Separate Rate Status Application, refer to the instructions contained in the application. Separate Rate Status Applications are due to the Department no later than 30 calendar days of publication of this Federal Register notice. The deadline and requirement for submitting a Separate Rate Status Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than April 30, 2017.

| Period to be reviewed
Antidumping Duty Proceedings
RUSSIA: Solid Fertilizer-Grade Ammonium Nitrate, A-821-811 | 4/1/15-3/31/16
JSC Acron/JSC Dorogobuzh
MCC EuroChem/OJSC NAK Azot/OJSC Nevinnomyssky Azot
THE PEOPLE'S REPUBLIC OF CHINA: Activated Carbon, A-570-904 | 4/1/15-3/31/16
AmeriAsia Advanced Activated Carbon Products Co., Ltd
Anhui Handfull International Trading (Group) Co., Ltd
Anhui Hengyuan Trade Co. Ltd
Anyang Sino-Shon International Trading Co., Ltd
Baoding Activated Carbon Factory
Beijing Broad Activated Carbon Co., Ltd
Beijing Embrace Technology Co., Ltd
Beijing Haijian Jiechang Environmental Protection Chemicals
Beijing Hibridge Trading Co., Ltd
Beijing Pacific Activated Carbon Products Co., Ltd
Bengbu Jiuton Trade Co., Ltd
Calgon Carbon (Tianjin) Co., Ltd
Carbon Activated Tianjin Co., Ltd
Changji Hongke Activated Carbon Co., Ltd
Chengde Jiayu Activated Carbon Factory
China National Building Materials and Equipment Import and Export Corp
China National Nuclear General Company Ningxia Activated Carbon Factory
China Nuclear Ningxia Activated Carbon Plant
China SDIC International Trade Co., Ltd
Da Neng Zheng Da Activated Carbon Co., Ltd
Datong Carbon Corporation
Datong Changtai Activated Carbon Co., Ltd
Datong City Zuoyun County Activated Carbon Co., Ltd
Datong Fenghua Activated Carbon
Datong Forward Activated Carbon Co., Ltd
Datong Fuping Activated Carbon Co. Ltd
Datong Guanghua Activated Co., Ltd
Datong Hongtai Activated Carbon Co., Ltd
Datong Huanqing Activated Carbon Co., Ltd
Datong Huaxin Activated Carbon
Datong Huibao Activated Carbon Co., Ltd
Datong Huibao Active Carbon Co., Ltd
Datong Huiyuan Cooperative Activated Carbon Plant
Datong Juqiang Activated Carbon Co., Ltd
Datong Kaneng Carbon Co. Ltd
Datong Locomotive Coal & Chemicals Co., Ltd
Datong Municipal Yunguang Activated Carbon Co., Ltd
Datong Tianzhao Activated Carbon Co., Ltd
Datong Tri-Star & Power Carbon Plant
Datong Weidu Activated Carbon Co., Ltd
Datong Xuanyang Activated Carbon Co., Ltd
Datong Zuoyun Biyun Activated Carbon Co., Ltd
Datong Zuoyun Fu Ping Activated Carbon Co., Ltd
Dezhou Jiayu Activated Carbon Factory
Dongguan Baofu Activated Carbon
Dongguan SYS Hitek Co., Ltd
Dushanzi Chemical Factory
Fijian Zhixing Activated Carbon Co., Ltd
Fu Yuan Activated Carbon Co., Ltd
Fujian Active Carbon Industrial Co., Ltd
Fujian Jianyang Carbon Plant
Fujian Nanping Yuanli Activated Carbon Co., Ltd
Fujian Xinsen Carbon Co., Ltd
Fujian Yuanli Active Carbon Co., Ltd
Fujian Yuanli Active Carbon Industrial Co., Ltd
Fuzhou Taking Chemical
Fuzhou Yihuan Carbon
Great Bright Industrial
Hangzhou Hengxing Activated Carbon
Hangzhou Hengxing Activated Carbon Co., Ltd
Hangzhou Linan Tianbo Material (HSLATB)
Hangzhou Nature Technology
Hangzhou Waterland Environment Technologies Co., Ltd
Hebei Foreign Trade and Advertising Corporation
Hebei Luna Trading Co., Ltd
Hebei Shenglun Import & Export Group Company
Hegongye Ninxia Activated Carbon Factory
Heilongjiang Provincial Hechang Import & Export Co., Ltd
Hongke Activated Carbon Co., Ltd
Huaibei Environment Protection Material Plant
Huairen Huanyu Purification Material Co., Ltd
Huairen Jinbei Chemical Co., Ltd
Huaiyushan Activated Carbon Group
Huatai Activated Carbon
Huzhou Zhonglin Activated Carbon
Inner Mongolia Taixi Coal Chemical Industry Limited Company
Itigi Corp. Ltd
J&D Activated Carbon Filter Co. Ltd
Jacobi Carbons AB
Jiangle County Xinhua Activated Carbon Co., Ltd
Jiangsu Taixing Yixin Activated Carbon Technology Co., Ltd
Jiangxi Hanson Import Export Co
Jiangxi Huaiyushan Activated Carbon
Jiangxi Huaiyushan Activated Carbon Group Co
Jiangxi Huaiyushan Suntar Active Carbon Co., Ltd
Jiangxi Jinma Carbon
Jiangxi Yuanli Huaiyushan Active Carbon Co., Ltd
Jianou Zhixing Activated Carbon
Jiaocheng Xinxin Purification Material Co., Ltd
Jilin Bright Future Chemicals Company, Ltd
Jilin Province Bright Future Industry and Commerce Co., Ltd
Jing Mao (Dongguan) Activated Carbon Co., Ltd
Kaihua Xingda Chemical Co., Ltd
Kemflo (Nanjing) Environmental Tech
Keyun Shipping (Tianjin) Agency Co., Ltd
Kunshan Actview Carbon Technology Co., Ltd
Langfang Winfield Filtration Co
Link Shipping Limited
Longyan Wanan Activated Carbon
Meadwestvaco (China) Holding Co., Ltd
Mindong Lianyi Group
Nanjing Mulinsen Charcoal
Nantong Ameriasia Advanced Activated Carbon Product Co., Ltd
Ningxi Baiyun Carbon Co., Ltd
Ningxia Baota Activated Carbon Co., Ltd
Ningxia Baota Active Carbon Plant
Ningxia Guanghua A/C Co., Ltd
Ningxia Blue-White-Black Activated Carbon (BWB)
Ningxia Fengyuan Activated Carbon Co., Ltd
Ningxia Guanghua Activated Carbon Co., Ltd
Ningxia Guanghua Chemical Activated Carbon Co., Ltd
Ningxia Guanghua Cherishmet Activated Carbon Co., Ltd
Ningxia Haoqing Activated Carbon Co., Ltd
Ningxia Henghui Activated Carbon
Ningxia Honghua Carbon Industrial Corporation
Ningxia Huahui Activated Carbon Co., Ltd
Ningxia Huinong Xingsheng Activated Carbon Co., Ltd
Ningxia Jirui Activated Carbon
Ningxia Lingzhou Foreign Trade Co., Ltd
Ningxia Luyuangheng Activated Carbon Co., Ltd
Ningxia Mineral & Chemical Limited
Ningxia Pingluo County Yaofu Activated Carbon Plant
Ningxia Pingluo Xuanzhong Activated Carbon Co., Ltd
Ningxia Pingluo Yaofu Activated Carbon Factory
Ningxia Taixi Activated Carbon
Ningxia Tianfu Activated Carbon Co., Ltd
Ningxia Tongfu Coking Co, Ltd
Ningxia Weining Active Carbon Co., Ltd
Ningxia Xingsheng Coal and Active Carbon Co., Ltd
Ningxia Xingsheng Coke & Activated Carbon Co., Ltd
Ningxia Yinchuan Lanqiya Activated Carbon Co., Ltd
Ningxia Yirong Alloy Iron Co., Ltd
Ningxia Zhengyuan Activated
Nuclear Ningxia Activated Carbon Co., Ltd
OEC Logistic Qingdao Co., Ltd
OEC Logistics Co., Ltd. (Tianjin)
Panshan Import and Export Corporation
Pingluo Xuanzhong Activated Carbon Co., Ltd
Pingluo Yu Yang Activated Carbon Co., Ltd
Shanghai Activated Carbon Co., Ltd
Shanghai Astronautical Science Technology Development Corporation
Shanghai Coking and Chemical Corporation
Shanghai Goldenbridge International
Shanghai Jiayu International Trading (Dezhou Jiayu and Chengde Jiayu)
Shanghai Jinhu Activated Carbon (Xingan Shenxin and Jiangle Xinhua)
Shanghai Light Industry and Textile Import & Export Co., Ltd
Shanghai Mebao Activated Carbon
Shanghai Xingchang Activated Carbon
Shanxi Blue Sky Purification Material Co., Ltd
Shanxi Carbon Industry Co., Ltd
Shanxi Dapu International Co., Ltd
Shanxi Dapu International Trade Co., Ltd
Shanxi DMD Corporation
Shanxi Industry Technology Trading Co., Ltd
Shanxi Newtime Co., Ltd
Shanxi Qixian Foreign Trade Corporation
Shanxi Qixian Hongkai Active Carbon Goods
Shanxi Sincere Industrial Co., Ltd
Shanxi Supply and Marketing Cooperative
Shanxi Tianli Ruihai Enterprise Co
Shanxi Tianxi Purification Filter Co., Ltd
Shanxi U Rely International Trade
Shanxi Xiaoyi Huanyu Chemicals Co., Ltd
Shanxi Xinhua Activated Carbon Co., Ltd
Shanxi Xinhua Chemical Co., Ltd. (formerly Shanxi Xinhua Chemical Factory)
Shanxi Xinhua Protective Equipment
Shanxi Xinshidai Import Export Co., Ltd
Shanxi Xuanzhong Chemical Industry Co., Ltd
Shanxi Zuoyun Yunpeng Coal Chemistry
Shenzhen Sihaiweilong Technology Co
Shijiazhuang Xinshuang Trade Co., Ltd
Sincere Carbon Industrial Co. Ltd
Sinoacarbon International Trading Co, Ltd
Taining Jinhu Carbon
Taiyuan Hengxinda Trade Co., Ltd
Tancarb Activated Carbon Co., Ltd
Tangshan Solid Carbon Co., Ltd
Tianchang (Tianjin) Activated Carbon
Tianjin Century Promote International Trade Co., Ltd
Tianjin Channel Filters Co., Ltd
Tianjin Jacobi International Trading Co. Ltd
Tianjin Maijin Industries Co., Ltd
Tonghua Bright Future Activated Carbon Plant
Tonghua Xinpeng Activated Carbon Factory
Top One International Trading Co., Ltd
Triple Eagle Container Line
Uniclear New-Material Co., Ltd
United Manufacturing International (Beijing) Ltd
Valqua Seal Products (Shanghai) Co
VitaPac (HK) Industrial Ltd
Wellink Chemical Industry
Xi Li Activated Carbon Co., Ltd
Xi'an Shuntong International Trade & Industrials Co., Ltd
Xiamen All Carbon Corporation
Xingan County Shenxin Activated Carbon Factory
Xinhua Chemical Company Ltd
Xuanzhong Chemical Industry
Yangyuan Hengchang Active Carbon
Yicheng Logistics
Yinchuan Lanqiya Activated Carbon Co., Ltd
Zhejiang Quizhou Zhongsen Carbon
Zhejiang Topc Chemical Industry Co
Zhejiang Xingda Activated Carbon Co., Ltd
Zhejiang Yun He Tang Co., Ltd
Zhuxi Activated Carbon
Zuoyun Bright Future Activated Carbon Plant
THE PEOPLE'S REPUBLIC OF CHINA: Certain Steel Threaded Rod, A-570-932 | 4/1/14-3/31/15
Aerospace Precision Corp. (Shanghai) Industry Co., Ltd
Aihua Holding Group Co. Ltd
Autocraft Industry (Shanghai) Ltd
Autocraft Industry Ltd
Billion Land Ltd
Bolt MFG. Trade Ltd
Billiongold Hardware Co. Ltd
Brother Holding Group Co. Ltd
C and H International Corporation
Certified Products International Inc
Changshu City Standard Parts Factory
China Friendly Nation Hardware Technology Limited
D.M.D. International Co. Ltd
Dongxiang Accuracy Hardware Co., Ltd
EC International (Nantong) Co., Ltd
Fastco (Shanghai) Trading Co., Ltd
Fasten International Co., Ltd
Fastwell Industry Co. Ltd
Fook Shing Bolts & Nuts Co. Ltd
Fuda Xiongzhen Macyinery Co., Ltd
Fuller Shanghai Co Ltd
Gem-Year Industrial Co. Ltd
Guangdong Honjinn Metal & Plastic Co., Ltd
Hainan Zhongyan United Development Co
Hainan Zhongda Fastener Co., Ltd
Haiyan Chaqqiang Standard Fasterner
Haiyan Dayu Fasterners Co., Ltd
Haiyan Evergreen Standard Parts Co. Ltd
Haiyan Fuxin High Strength Fasterner
Haiyan Hurras Import & Export Co. Ltd
Haiyan Jianhe Hardward Co. Ltd
Haiyan Julong Standard Part Co. Ltd
Haiyan Yuxing Nuts Co. Ltd
Hangzhou Everbright Imp. & Exp. Co. Ltd
Hangzhou Grand Imp & Exp. Co., Ltd
Hangzhou Great Imp & Exp. Co. Ltd
Hangzhou Lizhan Hardware Co. Ltd
Hangzhou Tongwang Machinery Co., Ltd
Hong Kong Sunrise Fasterners Co. Ltd
Hong Kong Sunrise Fasteners Co. Ltd
Jiangsu Zhongweiyu Communication Equipment Co. Ltd
Jiashan Steelfit Trading Co. Ltd
Jiashan Zhongsheng Metal Products Co., Ltd
Jiaxing Brother Standard Part Co., Ltd.; IFI & Morgan Ltd.; and RMB Fasteners Ltd
Jiaxing Jinhow Import & Export Co., Ltd
Jiaxing Xinyue Standard Part Co. Ltd
Jiaxing Yaoliang Import & Export Co., Ltd
Jinan Banghe Industry & Trade Co., Ltd
King Socket Screw Company Ltd
L&W Fasteners Company
Macropower Industrial Inc
Mai Seng International Trading Co., Ltd
MB Services Company
Midas Union Co., Ltd
Nanjing Prosper Import & Export Corporation Ltd
New Pole Power System Co. Ltd
Ningbiao Bolts & Nuts Manufacturing Co
Ningbo Beilun Milfast Metalworks Co. Ltd
Ningbo Beilun Pingxin Hardware Co., Ltd
Ningbo Dexin Fastener Co. Ltd
Ningbo Dongxin High-Strength Nut Co., Ltd
Ningbo Fastener Factory
Ningbo Fengya Imp. And Exp. Co. Ltd
Ningbo Fourway Co., Ltd
Ningbo Haishu Holy Hardware Import and Export Co. Ltd
Ningbo Haishu Wit Import & Export Co. Ltd
Ningbo Haishu Yixie Import & Export Co. Ltd
Ningbo Jinding Fastening Pieces Co., Ltd
Ningbo MPF Manufacturing Co. Ltd
Ningbo Panxiang Imp. & Exp., Co. Ltd
Ningbo Yili Import & Export Co., Ltd
Ningbo Yinzhou Dongxiang Accuarcy Hardware Co., Ltd
Ningbo Yinzhou Foreign Trade Co., Ltd
Ningbo Yinzhou Woafan Industry &Trade Co., Ltd
Ningbo Zhenghai Yongding Fastener Co., Ltd
Ningbo Zhongjiang High Strength Bolts Co. Ltd
Ningbo Zhongjiang Petroleum Pipes & Machinery Co., Ltd
Orient International Holding Shanghai Rongheng Intl Trading Co. Ltd
Pol Shin Fastener (Zhejiang) Co
Prosper Business and Industry Co., Ltd
Qingdao Free Trade Zone Health Intl
Qingdao Top Steel Industrial Co. Ltd
Shaanxi Succeed Trading Co., Ltd
Shanghai Autocraft Co., Ltd
Shanghai East Best Foreign Trade Co
Shanghai East Best International Business Development Co., Ltd
Shanghai Fortune International Co. Ltd
Shanghai Furen International Trading
Shanghai Hunan Foreign Economic Co., Ltd
Shanghai Jiabao Trade Development Co. Ltd
Shanghai Nanshi Foreign Economic Co
Shanghai Overseas International Trading Co. Ltd
Shanghai Prime Machinery Co. Ltd
Shanghai Printing & Dyeing and Knitting Mill
Shanghai Printing & Packaging Machinery Corp
Shanghai Recky International Trading Co., Ltd
Shanghai Sinotex United Corp. Ltd
SRC Metal (Shanghai) Co., Ltd
Suntec Industries Co., Ltd
Suzhou Henry International Trading Co., Ltd
T and C Fastener Co. Ltd
T and L Industry Co. Ltd
Tianjin Port Free Trade Zone Star Pipe International Trade Co., Ltd
Wisechain Trading Limited
Wuxi Metec Metal Co. Ltd
Zhejiang Heirrmu Mechanical and Electrical Equipment Manufacturing Co Ltd
Zhejiang Heiter Industries Co., Ltd
Zhejiang Heiter MFG & Trade Co. Ltd
Zhejiang Jin Zeen Fasteners Co. Ltd
Zhejiang Junyue Standard Part Co., Ltd
Zhejiang Laibao Precision Technology Co. Ltd
Zhejiang Metals & Minerals Imp & Exp Co. Ltd
Zhejiang Morgan Brother Technology Co. Ltd
Zhejiang New Century Imp & Exp Co. Ltd
Zhejiang New Oriental Fastener Co., Ltd
Zhejiang Zhenglian Industry Development Co., Ltd
Zhoushan Zhengyuan Standard Parts Co., Ltd
THE PEOPLE'S REPUBLIC OF CHINA: Drawn Stainless Steel Sinks, A-570-983 | 4/1/15-3/31/16
B&R Industries Limited
Elkay (China) Kitchen Solutions, Co., Ltd
Feidong Import and Export Co., Ltd
Foshan Shunde MingHao Kitchen Utensils Co., Ltd
Foshan Zhaoshun Trade Co., Ltd
Franke Asia Sourcing Ltd
Grand Hill Work Company
Guangdong Dongyuan Kitchenware Industrial Co., Ltd
Guangdong G-Top Import & Export Co., Ltd
Guangdong New Shichu Import & Export Company Limited
Guangdong Yingao Kitchen Utensils Co., Ltd
Hangzhou Heng's Industries Co., Ltd
Hubei Foshan Success Imp & Exp Co. Ltd
J&C Industries Enterprise Limited
Jiangmen Hongmao Trading Co., Ltd
Jiangmen New Star Hi-Tech Enterprise Ltd
Jiangmen Pioneer Import & Export Co., Ltd
Jiangmen Xinhe Stainless Steel Products Co., Ltd
Jiangxi Zoje Kitchen & Bath Industry Co., Ltd
KaiPing Dawn Plumbing Products, Inc
Ningbo Afa Kitchen and Bath Co., Ltd
Ningbo Oulin Kitchen Utensils Co., Ltd
Primy Cooperation Limited
Shenzhen Kehuaxing Industrial Ltd
Shunde Foodstuffs Import & Export Company Limited of Guangdong
Shunde Native Produce Import and Export Co., Ltd. of Guangdong
Xinhe Stainless Steel Products Co., Ltd
Yuyao Afa Kitchenware Co., Ltd
Zhongshan Newecan Enterprise Development Corporation
Zhongshan Silk Imp. & Exp. Group Co., Ltd. of Guangdong
Zhongshan Superte Kitchenware Co., Ltd
Zhuhai Kohler Kitchen & Bathroom Products Co., Ltd
THE PEOPLE'S REPUBLIC OF CHINA: Magnesium Metal, A-570-896 | 4/1/15-3/31/16
Tianjin Magnesium International Co., Ltd
Tianjin Magnesium Metal Co., Ltd
Countervailing Duty Proceedings
THE PEOPLE'S REPUBLIC OF CHINA: Drawn Stainless Steel Sinks, C-570-984 | 1/1/15-12/31/15
Guangdong Dongyuan Kitchenware Industrial Co., Ltd
Guangdong Yingao Kitchen Utensils Co., Ltd
Jiangmen New Star He-Tech Enterprise Ltd
Zhongshan Superte Kitchenware Co., Ltd
Suspension Agreements
None

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

Revised Factual Information Requirements

On April 10, 2013, the Department published Definition of Factual Information and Time Limits for Submission of Factual Information: Final Rule, 78 FR 21246 (April 10, 2013), which modified two regulations related to antidumping and countervailing duty proceedings: the definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all segments initiated on or after May 10, 2013. Please review the final rule, available at http://enforcement.trade.gov/frn/2013/1304frn/2013-08227.txt, prior to submitting factual information in this segment.

Any party submitting factual information in an antidumping duty or countervailing duty proceeding must certify to the accuracy and completeness of that information.⁴ Parties are hereby reminded that revised certification requirements are in effect for company/government officials as well as their representatives. All segments of any antidumping duty or countervailing duty proceedings initiated on or after August 16, 2013, should use the formats for the revised certifications provided at the end of the Final Rule.⁵ The Department intends to reject factual submissions in any proceeding segments if the submitting party does not comply with applicable revised certification requirements.

⁴ See section 782(b) of the Act.

⁵ See Certification of Factual Information To Import Administration During Antidumping and Countervailing Duty Proceedings, 78 FR 42678 (July 17, 2013) (“Final Rule”); see also the frequently asked questions regarding the Final Rule, available at http://enforcement.trade.gov/tlei/notices/factual_info_final_rule_FAQ_07172013.pdf.

Revised Extension of Time Limits Regulation

On September 20, 2013, the Department modified its regulation concerning the extension of time limits for submissions in antidumping and countervailing duty proceedings: Final Rule, 78 FR 57790 (September 20, 2013). The modification clarifies that parties may request an extension of time limits before a time limit established under Part 351 expires, or as otherwise specified by the Secretary. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: May 26, 2016.
Christian Marsh,
Deputy Assistant Secretary for Antidumping and Countervailing Duty Operations.

[FR Doc. 2016-13277 Filed 6-3-16; 8:45 am]

BILLING CODE 3510-DS-P